DEPARTMENT OF ENERGY

Federal Energy Regulatory Commission

[Docket No. CP00-407-000]

Southern Natural Gas Company; Notice of Request Under Blanket Authorization

July 27, 2000.

Take notice that on July 19, 2000, Southern Natural Gas Company (Southern), 1900 5th Avenue North, Birmingham, Alabama 35203, filed in Docket No. CP00-407-000 a request pursuant to Section 157.205 and 157.216 of the Commission's Regulations under the Natural Gas Act (18 CFR sections 157.205 and 157.216) and Southern's blanket certificate authorization granted in Docket No. CP82-406-000 requests authorization to abandon certain facilities as more fully set forth in the application which is on file with the Commission and open to public inspection. The application may be viewed on the web at http://www.ferc.fed.us/online/rims.htm. Call (202) 208-2222 for assistance.

Specifically, Southern requests authorization to abandon by sale to Mississippi Valley Gas Company (MVGC): (1) The Clayton Village Meter Station in Oktibbeha County, Mississippi; and (2) the Starkville Meter Station in Oktibbeha County, Mississippi. Southern states that it will abandon these delivery points under section 157.216(b)(1). Southern also states that it will abandon by sale to MVGC: (a) Approximately 10 miles of the 6-inch Starkville Lateral in Lowndes and Oktibbeha Counties, Mississippi; and (b) the Starkville Tap Regulator Station which consists of two 3-inch regulators and a relief value and is located in Lowndes County, Mississippi, under the automatic authorization of section 157.216(a)(2). In addition, Southern also states that it will make such modifications as deemed necessary to effect delivery to MVGC's system after the purchase and sale of the Facilities. Specifically, Southern indicates that it will construct, install and operate a six-inch tap in Lowndes County, Mississippi. Southern has also indicated that it will construct, install and operate the tap as a delivery point facility under section 157.211(a) of the Commission's Regulations pursuant to its blanket certificate of public convenience and necessity. Southern states that MVGC will construct and own a new delivery station consisting of one six-inch and one four-inch meter run, one regulator station and appurtenant facilities, at its property located at Southern's tap.

Any person or the Commission's Staff may, within 45 days after issuance of the instant notice by the Commission, file pursuant to Rule 214 of the Commission's Procedural Rules (18 CFR 385.214) a motion to intervene or notice of intervention and pursuant to section 157.205 of the regulations under the Natural Gas Act (18 CFR 157.205), a protest to the request. If no protest is filed within the time allowed therefore, the proposed activity shall be deemed to be authorized effective the day after the time allowed for filing a protest. If a protest is filed and not withdrawn within 30 days after the time allowed for filing a protest, the instant request shall be treated as an application for authorization pursuant to section 7 of the Natural Gas Act.

David P. Boergers,
Secretary.

[FR Doc. 00-19457 Filed 8-1-00; 8:45 am]

BILLING CODE 6717-01-M